DEPARTMENT OF ENERGY

Federal Energy Regulatory Commission

[Docket No. RP02-337-000]

Maritimes & Northeast Pipeline L.L.C.; Notice of Proposed Changes in FERC Gas Tariff

May 15, 2002.

Take notice that on May 7, 2002 Maritimes & Northeast Pipeline, L.L.C. (Maritimes) tendered for filing as part of its FERC Gas Tariff, First Revised Volume No. 1, Third Revised Sheet No. 11 to become effective on June 1, 2002.

Maritimes states that it is making this Interim Fuel Retainage Quantity (FRQ) filing, pursuant to section 20 of the General Terms and Conditions of its FERC Gas Tariff. Maritimes is proposing to reduce its Fuel Retainage Percentages for the Summer Period (June 1, 2002—August 31, 2002) and the Fall Shoulder Period (September 1, 2002—October 31, 2002) to 0.90%. Maritimes states that this reduction is necessary to reflect lower compressor fuel gas usage that is occurring on the Maritimes system as a result of lower throughput for the current gas year than that originally projected in Maritimes October 1, 2001 Annual Fuel Retainage Quantity filing in Docket No. RP02-4.

Maritimes also states that pursuant to section 20.5 of the General Terms and Conditions (GT&C), Maritimes is permitted to make interim filings to adjust the fuel retention percentages as appropriate. Maritimes also states that it will make its Annual FRQ filing in October to reflect the anticipated fuel percentages for the gas year commencing November 1, 2002.

Maritimes states that copies of this filing were mailed to all affected customers of Maritimes and interested state commissions.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-12753 Filed 5-21-02; 8:45 am]

BILLING CODE 6717-01-P